ENVIRONMENTAL PROTECTION AGENCY

[EPA-HQ-OPPT-2016-0099; FRL-9942-65]

Premanufacture Notice for a Certain New Chemical; Extension of Review Period

AGENCY: Environmental Protection Agency (EPA).

ACTION: Notice.

SUMMARY: This notice announces EPA's extension of the review period for a premanufacture notice (PMN) P-14-0627 under the Toxic Substances Control Act (TSCA). Based on analysis, the Agency requires an extension of the review period to investigate further potential risk, examine regulatory options, and prepare the necessary documents, should regulatory action be required.

DATES: The review period is extended to May 25, 2016.

FOR FURTHER INFORMATION CONTACT:

For technical information contact: Jeff Bauer, Chemical Control Division (7405M), Office of Pollution Prevention and Toxics, Environmental Protection Agency, 1200 Pennsylvania Ave. NW., Washington, DC 20460-0001; telephone number: (202) 564-9042; email address: Bauer.Jeff@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the chemical manufacturing company that submitted the PMN. This action may also be of interest to persons concerned about health, environmental, and/or economic aspects of this new chemical substance. Since other entities may also be interested, the Agency has not attempted to describe all the specific entities that may be affected by this action.

B. How can I get copies of this document and other related information?

The docket for this action, identified by docket identification (ID) number EPA-HQ-OPPT-2016-0099, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What chemical is subject to this notice?

On June 19, 2014, EPA received PMN number P-14-0627 for a new chemical substance, identified as Cyclic amide. The submitter claimed the company name, specific chemical identity, production volume, use information, process information, and other information to be CBI.

III. What action is the Agency taking?

The notice of receipt for this PMN was published in the Federal Register of September 16, 2014 (79 FR 55460) (FRL-9915-80). The running of the PMN review period was voluntarily suspended by the PMN submitter with EPA's agreement. The PMN review period has been resumed. As extended, the review period for this PMN expires May 25, 2016.

IV. What is EPA's authority for taking this action?

Section 5(c) of TSCA and 40 CFR 720.75(c) authorizes EPA to extend, for good cause, the 90-day PMN review period for additional periods not to exceed in the aggregate 90 days. For this PMN, EPA finds that there is good cause to extend the review period. Based on analysis, EPA may need to regulate this new chemical substance and the Agency needs an extension of the review period to further investigate potential risk, examine regulatory options, and prepare the necessary documents, should regulatory action be required.

Authority: 15 U.S.C. 2601 et seq.

Dated: February 25, 2016.
Greg Schweer,
Chief, New Chemicals Notice Management Branch, Office of Pollution Prevention and Toxics.

[FR Doc. 2016-04597 Filed 3-1-16; 8:45 am]

BILLING CODE 6560-50-P